DEPARTMENT OF ENERGY

Federal Energy Regulatory Commission

Combined Notice of Filings

Take notice that the Commission has received the following Natural Gas Pipeline Rate and Refund Report filings:

Filings Instituting Proceedings

Docket Numbers: RP19-419-003.

Applicants: Tuscarora Gas Transmission Company.

Description: Compliance filing Compliance to RP19-419 Phase II Rates to be effective 8/1/2019.

Filed Date: 6/28/19.

Accession Number: 20190628-5061.

Comments Due: 5 p.m. ET 7/11/19.

Docket Numbers: RP19-1045-001.

Applicants: Cheniere Creole Trail Pipeline, L.P.

Description: Request for Temporary Waiver and Extension of Time to Implement NAESB 3.1 Standards Per Order No. 587-Y of Cheniere Creole Trail Pipeline, L.P. under RP19-1045.

Filed Date: 7/1/19.

Accession Number: 20190701-5418.

Comments Due: 5 p.m. ET 7/15/19.

Docket Numbers: RP19-206-005.

Applicants: Mississippi Canyon Gas Pipeline, L.L.C.

Description: Compliance filing MCGP RP19-206 Compliance Filing to be effective 8/1/2019.

Filed Date: 7/2/19.

Accession Number: 20190702-5146.

Comments Due: 5 p.m. ET 7/15/19.

Docket Numbers: RP19-73-002.

Applicants: El Paso Natural Gas Company, L.L.C.

Description: Compliance filing FERC Form No. 501-G Settlement Implementation Filing to be effective 1/1/2019.

Filed Date: 7/2/19.

Accession Number: 20190702-5116.

Comments Due: 5 p.m. ET 7/15/19.

Docket Numbers: RP19-1375-000.

Applicants: Texas Eastern Transmission, LP.

Description: § 4(d) Rate Filing: July 2019 Name Change Cleanup Filing to be effective 8/5/2019.

Filed Date: 7/5/19.

Accession Number: 20190705-5101.

Comments Due: 5 p.m. ET 7/17/19.

Docket Numbers: RP19-1376-000.

Applicants: Texas Eastern Transmission, LP.

Description: § 4(d) Rate Filing: Negotiated Rates—July 2019 Cleanup Filing to be effective 8/5/2019.

Filed Date: 7/5/19.

Accession Number: 20190705-5104.

Comments Due: 5 p.m. ET 7/17/19.

Docket Numbers: RP19-1377-000.

Applicants: Algonquin Gas Transmission, LLC.

Description: § 4(d) Rate Filing: Negotiated Rates—July 2019 Cleanup Filing to be effective 8/5/2019.

Filed Date: 7/5/19.

Accession Number: 20190705-5106.

Comments Due: 5 p.m. ET 7/17/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 9, 2019.
Nathaniel J. Davis, Sr.,
Deputy Secretary.

[FR Doc. 2019-14925 Filed 7-12-19; 8:45 am]

BILLING CODE 6717-01-P